DEPARTMENT OF TRANSPORTATION

Federal Aviation Administration

14 CFR Part 39

[Docket No. 2000-CE-60-AD; Amendment 39-12985; AD 2002-25-09]

RIN 2120-AA64

Airworthiness Directives; Air Tractor, Inc. Models AT-250, AT-300, AT-301, AT-302, AT-400, AT-400A, AT-401, AT-401A, AT-402, AT-402A, AT-501, AT-502, and AT-502A Airplanes

AGENCY: Federal Aviation Administration, DOT.

ACTION: Final rule.

SUMMARY: This amendment adopts a new airworthiness directive (AD) that applies to certain Air Tractor, Inc. (Air Tractor) Models AT-250, AT-300, AT-301, AT-302, AT-400, AT-400A, AT-401, AT-401A, AT-402, AT-402A, AT-501, AT-502, and AT-502A airplanes. This AD requires you to install an overturn skid plate in the cockpit area. This AD is the result of reports of foreign material entering the cabin area during an overturn skid of the affected airplanes. The actions specified by this AD are intended to minimize the possibility of dirt or mud penetrating the cockpit in case of an aircraft overturn. Such mud and dirt penetration into the cockpit could lead to pilot asphyxia or injury.

DATES: This AD becomes effective on February 10, 2003.

The Director of the Federal Register approved the incorporation by reference of certain publications listed in the regulations as of February 10, 2003.

ADDRESSES: You may get the service information referenced in this AD from Air Tractor, Inc., P.O. Box 485, Olney, Texas 76374. You may view this information at the Federal Aviation Administration (FAA), Central Region, Office of the Regional Counsel, Attention: Rules Docket No. 2000-CE-60-AD, 901 Locust, Room 506, Kansas City, Missouri 64106; or at the Office of the Federal Register, 800 North Capitol Street, NW., suite 700, Washington, DC.

FOR FURTHER INFORMATION CONTACT: Andrew McAnaul, Aerospace Engineer, FAA, Fort Worth Airplane Certification Office, 2601 Meacham Boulevard, Fort Worth, Texas 76193-0150; telephone: (817) 222-5156; facsimile: (817) 222-5960.

SUPPLEMENTARY INFORMATION:

Discussion

What events have caused this AD? The FAA has received accident reports on Air Tractor Models AT-301 and AT-401 airplanes. The reports indicate that the aircraft skids tail first after an overturn, the windshield and curved overturn tube act as a scoop, foreign material enters the cockpit if the top of the canopy is damaged, and this foreign material then enters into the cabin area and possibly contributes to pilot deaths.

Has FAA taken any action to this point? We issued a proposal to amend part 39 of the Federal Aviation Regulations (14 CFR part 39) to include an AD that would apply to certain Air Tractor Models AT-250, AT-300, AT-301, AT-302, AT-400, AT-400A, AT-401, AT-401A, AT-402, AT-402A, AT-501, AT-502, and AT-502A airplanes. This proposal was published in the Federal Register as a notice of proposed rulemaking (NPRM) on August 29, 2002 (67 FR 55360). The NPRM proposed to require you to install an overturn skid plate in the cockpit area. The actions specified by this proposed AD are intended to minimize the possibility of dirt or mud penetrating the cockpit in case of an aircraft overturn.

What is the potential impact if FAA took no action? Such mud and dirt penetration into the cockpit could lead to pilot asphyxia or injury.

Was the public invited to comment? The FAA encouraged interested persons to participate in the making of this amendment. The following presents the comments received on the proposal and FAA's response to each comment:

Comment Issue No. 1: Remove the Air Tractor Model AT-502A Designation From the Applicability

What is the commenter's concern? The commenter states that the Air Tractor Model AT-502A airplanes did not start production until after serial numbers applicable to the AD. Furthermore, the commenter states skid plates were installed on all Model AT-502A airplanes during factory production. The commenter wants Air Tractor Model AT-502A airplanes removed from the applicability section of the final rule AD action.

What is FAA's response to the concern? We do not concur. Air Tractor confirms that there is the possibility of one Model AT-502A airplane (converted from an early production AT-503, and with one of the affected serial numbers) in operation that did not receive the skid plate installation.

We are not changing the final rule AD action based on this comment.

Comment Issue No. 2: Correct Wording in the Summary and Related AD Section

What is the commenter's concern? The commenter states that the following sentence in the NPRM Summary and proposed AD paragraph 2(c) is misleading: “The proposed AD is the result of reports of foreign material entering the cabin area and contributing to accidents of the affected airplanes.” The commenter states that the sentence is misleading in that it implies that entering foreign material has caused an accident and does not indicate that an accident (an overturn of the aircraft) has already occurred. The commenter wants the sentence corrected to indicate the possibility of foreign material entering the cockpit after an accident where the aircraft has overturned.

What is FAA's response to the concern? We agree with the commenter. The final rule AD Summary and AD paragraph 2(c) will be changed to indicate the possibility of foreign material entering the cockpit after an accident where the aircraft has overturned.

We will change the final rule AD action to incorporate these changes.

FAA's Determination

What is FAA's final determination on this issue? We carefully reviewed all available information related to the subject presented above and determined that air safety and the public interest require the adoption of the rule as proposed except for the changes discussed above and minor editorial questions. We have determined that these changes and minor corrections:

—Provide the intent that was proposed in the NPRM for correcting the unsafe condition; and

—Do not add any additional burden upon the public than was already proposed in the NPRM.

Cost Impact

How many airplanes does this AD impact? We estimate that this AD affects 845 airplanes in the U.S. registry.

What is the cost impact of this AD on owners/operators of the affected airplanes? We estimate the following costs to accomplish the modification:

Labor cost | Parts cost | Total cost per airplane | Total cost U.S. operators
6 workhours × $60 = $360 | $300 | $660 | 845 × $660 = $557,700

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-25-09 Air Tractor, Inc.: Amendment 39-12985; Docket No. 2000-CE-60-AD.

(a) What airplanes are affected by this AD? This AD affects the following airplane models and serial numbers that are certificated in any category;

Models | Serial Nos.
AT-250, AT-300, AT-301, AT-302, AT-400, AT-400A, AT-401, AT-401A, AT-402, and AT-402A | All through 0829.
AT-501, AT-502, and AT-502A | All through 0147.

(b) Who must comply with this AD? Anyone who wishes to operate any of the airplanes identified in paragraph (a) of this AD must comply with this AD.

(c) What problem does this AD address? The actions specified by this AD are intended to minimize the possibility of dirt or mud penetrating the cockpit in case of an aircraft overturn. Such mud and dirt penetration into the cockpit could lead to pilot asphyxia or injury.

(d) What actions must I accomplish to address this problem? To address this problem, you must accomplish the following:

Actions | Compliance | Procedures
Install overturn skid plate, part number (P/N) 11411-1-500, or FAA-approved equivalent P/N | Within the next 180 days after February 10, 2003 (the effective date of this AD), unless already accomplished. | In accordance with Snow Engineering Company Service Letter #97, dated March 23, 1991, Revised October 3, 2000, and the applicable maintenance manual.

(e) Can I comply with this AD in any other way? You may use an alternative method of compliance or adjust the compliance time if:

(1) Your alternative method of compliance provides an equivalent level of safety; and

(2) The Manager, Fort Worth Aircraft Certification Office (ACO), approves your alternative. Submit your request through an FAA Principal Maintenance Inspector, who may add comments and then send it to the Manager, Fort Worth ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Andrew McAnaul, Aerospace Engineer, FAA, Fort Worth Airplane Certification Office, 2601 Meacham Boulevard, Fort Worth, Texas 76193-0150; telephone: (817) 222-5156; facsimile: (817) 222-5960.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with Snow Engineering Company Service Letter # 97, dated March 23, 1991, Revised October 3, 2000. The Director of the Federal Register approved this incorporation by reference under 5 U.S.C. 552(a) and 1 CFR part 51. You may get copies from Air Tractor, Inc., P.O. Box 485, Olney, Texas 76374. You may view copies at the FAA, Central Region, Office of the Regional Counsel, 901 Locust, Room 506, Kansas City, Missouri, or at the Office of the Federal Register, 800 North Capitol Street, NW, suite 700, Washington, DC.

(i) When does this amendment become effective? This amendment becomes effective on February 10, 2003.

Issued in Kansas City, Missouri, on December 13, 2002.
Dorenda D. Baker,
Acting Manager, Small Airplane Directorate, Aircraft Certification Service.

[FR Doc. 02-31998 Filed 12-20-02; 8:45 am]

BILLING CODE 4910-13-P